Executive Order 13152 of May 2, 2000

Further Amendment to Executive Order 11478, Equal Employment Opportunity in Federal Government

By the authority vested in me as President by the Constitution and the laws of the United States, and in order to provide for a uniform policy for the Federal Government to prohibit discrimination based on an individual's status as a parent, it is hereby ordered that Executive Order 11478, as amended, is further amended as follows:

Section 1. Amend the first sentence of section 1 by substituting “sexual orientation, or status as a parent.” for “or sexual orientation.”

Sec. 2. Insert the following new sections 6 and 7 after section 5:

“Sec. 6. `Status as a parent' refers to the status of an individual who, with respect to an individual who is under the age of 18 or who is 18 or older but is incapable of self-care because of a physical or mental disability, is:

(a)

a biological parent;

(b)

an adoptive parent;

(c)

a foster parent;

(d)

a stepparent;

(e)

a custodian of a legal ward;

(f)

in loco parentis over such an individual; or

(g)

actively seeking legal custody or adoption of such an individual.

“Sec. 7. The Office of Personnel Management shall be authorized to develop guidance on the provisions of this order prohibiting discrimination on the basis of an individual's sexual orientation or status as a parent.”

Sec. 3. Amend section 4 by substituting “and appropriate to carry out its responsibilities under this Order.” for “appropriate to carry out this Order.”

Sec. 4. Renumber current sections 6, 7, and 8 as sections 8, 9, and 10, respectively.

Sec. 5. Add a section 11 to read as follows:

“Sec. 11. This Executive Order does not confer any right or benefit enforceable in law or equity against the United States or its representatives.”

wj

THE WHITE HOUSE,

May 2, 2000.

[FR Doc. 00-11336

Filed 5-3-00; 8:45 am]

Billing code 3195-01-P